NATIONAL ENDOWMENT FOR THE ARTS

Submission for OMB Review; Comment Request

September 12, 2008.

The National Endowment for the Arts has submitted the following public information collection request (ICR) to the Office of Management and Budget (OMB) for review and approval in accordance with the Paperwork Reduction Act of 1995 (Pub. L. 104-13, 44 U.S.C. Chapter 35). Copies of this ICR, with applicable supporting documentation, may be obtained by calling the National Endowment for the Arts' Leadership Initiatives and Projects Coordinator, Michael McLaughlin (202/682-5457).

Comments should be sent to Office of Information and Regulatory Affairs, Attn: OMB Desk Officer for the National Endowment for the Arts, Office of Management and Budget, Room 10235, Washington, DC 20503 (202/395-4718), within thirty days of this publication in the Federal Register.

The OMB is particularly interested in comments which:

—Evaluate whether the proposed collection of information is necessary for the proper performance of the functions of the agency, including whether the information will have practical utility;

—Evaluate the accuracy of the agency's estimate of the burden of the proposed collection of information including the validity of the methodology and assumptions used;

—Enhance the quality, utility and clarity of the information to be collected; and

—Minimize the burden of the collection of information on those who are to respond, including through the use of appropriate automated, electronic, mechanical or other technological collection techniques or other forms of information technology, e.g., permitting electronic submissions of responses.

Agency: National Endowment for the Arts.

Title: Operation Homecoming Workshop Evaluation Surveys.

OMB Number:

Frequency: One time only.

Affected Public: Participants in writing workshops associated with “Operation Homecoming: Writing the Wartime Experience”.

Number of Respondents: Estimate 350.

Estimated Time per Respondent: 15 minutes.

Estimate Cost per Respondent: $64.

Total Burden Hours: 87.5.

Total Annualized Capital/Startup Costs: 0.

Total Annual Costs (Operating/Maintaining Systems or Purchasing Services): $22,500.

Description: “Operation Homecoming: Writing the Wartime Experience” presents writing workshops for U.S. Armed Forces active duty troops and veterans of both current and past conflicts. Workshops generally will last four to six weeks, and will take place at approximately 25 sites around the country, including military installations, veterans' centers and hospitals. The NEA has entered into a cooperative agreement with the Southern Arts Federation in Atlanta, GA, to administer the writing workshops and oversee the evaluation process. Evaluation surveys will be completed by workshop participants.

Kathleen Edwards,
Director, Administrative Services.

[FR Doc. E8-22153 Filed 9-22-08; 8:45 am]

BILLING CODE 7536-01-P